DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of the Local Redevelopment Authorities (LRAs) recognized by the Secretary of Defense, acting through the Department of Defense Office of Economic Adjustment (OEA), as well as the points of contact, addresses, and telephone numbers for the LRAs for those installations. Representatives of state and local governments, homeless providers, and other parties interested in the redevelopment of an installation should contact the person or organization listed. The following information will also be published simultaneously in a newspaper of general circulation in the area of each installation. There will be additional Notices providing this same information about LRAs for other closing or realigning installations where surplus government property is available as those LRAs are recognized by the OEA.

DATES: Effective Date: October 23, 2006.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

Alabama

Installation Name: BG William P. Screws USARC.

LRA Name: City of Montgomery.

Point of Contact: Ken Groves, Director, Planning & Development Department, City of Montgomery.

Address: P.O. Box 1111, Montgomery, AL 36101-1111.

Phone: (334) 241-2712.

Ohio

Installation Name: Fort Hayes Memorial USARC.

LRA Name: City of Columbus Local Redevelopment Authority.

Point of Contact: Vince Papsidero, AICP, Planning Administrator, City of Columbus.

Address: 109 N. Front Street, Columbus, OH 43215.

Phone: (614) 645-8502.

Pennsylvania

Installation Name: Lycoming Memorial USARC.

LRA Name: Lycoming Memorial Local Redevelopment Authority.

Point of Contact: Bill Burdett, Township Manager, Loyalsock Township Board of Supervisors.

Address: 2501 E. Third St., Williamsport, PA 17701.

Phone: (570) 323-6151.

October 17, 2006.
L.M. Bynum,
OSD Federal Register Liaison Officer, Department of Defense.

[FR Doc. E6-17691 Filed 10-20-06; 8:45 am]

BILLING CODE 5001-06-P